DEPARTMENT OF LABOR

Mine Safety and Health Administration

30 CFR Parts 70, 75, and 90

RIN 1219-AB14

Verification of Underground Coal Mine Operators' Dust Control Plans and Compliance Sampling for Respirable Dust

AGENCY: Mine Safety and Health Administration (MSHA), Labor.

ACTION: Proposed rule; extension of comment period.

SUMMARY: This document extends the comment period for Verification of Underground Coal Mine Operators' Dust Control Plans and Compliance Sampling for Respirable Dust (Plan Verification), published in the Federal Register on March 6, 2003 as a proposed rule. The comment period was scheduled to close on July 3, 2003, but will now remain open until further notice is published in the Federal Register.

MSHA has decided to extend the comment period in order to obtain further information on Personal Dust Monitors (PDMs), a new technology which is currently being tested by the National Institute for Occupational Safety and Health (NIOSH).

All comments received will be entered into the rulemaking.

DATES: The rulemaking record for the proposed rule published on March 6, 2003, and for which the comment period was extended on May 29, 2003, will remain open until further notice in the Federal Register.

ADDRESSES: You may use mail, facsimile (fax), or electronic mail to send us your comments. Clearly identify them as comments and send them (1) by mail to MSHA, Office of Standards, Regulations, and Variances, 1100 Wilson, Blvd., Room 2313, Arlington, Virginia 22209-3939; by fax to (202) 693-9441; or (3) electronic mail to: comments@msha.gov.

FOR FURTHER INFORMATION CONTACT: Marvin W. Nichols, Jr., Director, Office of Standards, Regulations and Variances, MSHA; phone: (202) 693-9440; facsimile: (202) 693-9441; e-mail: nichols-marvin@msha.gov.

You can request a copy of this extension notice in an alternate format, such as a large print version, an electronic file or a file on a disk. This extension notice is available on MSHA's Internet site, http://www.msha.gov, at the “Statutory and Regulatory Information” icon.

SUPPLEMENTARY INFORMATION:

I. Rulemaking Background

On July 7, 2000, the Mine Safety and Health Administration (MSHA) published a Notice of Proposed Rulemaking (NPRM) in the Federal Register, Verification of Underground Coal Mine Operators' Dust Control Plans and Compliance Sampling for Respirable Dust (Plan Verification) (65 FR 42122). A notice of public hearing and close of record was also published in the Federal Register (65 FR 41286) on July 7, 2000. During August 2000, three public hearings were conducted in Morgantown, West Virginia; Prestonsburg, Kentucky; and Salt Lake City, Utah. Transcripts of those proceedings were made available to the public. In response to requests from commenters, the public comment period was extend to September 8, 2000 (65 FR 29215).

On March 6, 2003, (68 FR 10784), in response to commenters to the 2000 proposed rule, MSHA published a second proposed rule in the Federal Register. During May 2003, the agency held six public hearings in Washington, Pennsylvania; Charleston, West Virginia; Evansville, Indiana; Lexington, Kentucky; Birmingham, Alabama; and Grand Junction, Colorado. The hearings were attended by over 500 members of the public. In response to requests from the mining community the Agency extended the post-hearing comment period from June 4, 2003 to July 3, 2003 (68 FR 32005, May 29, 2003). This notice extends the public comment period from July 3, 2003 until further notice is published in the Federal Register.

II. Reasons for Extension of Comment Period

The Agency made the decision to extend the comment period on the proposed rule after careful consideration of comments during the May 2003 public hearings concerning the preliminary success of in-mine tests on a prototype of personal dust monitors (PDMs).

The Comment period will remain open during which time:

• The in-mine testing of the pre-production prototype PDMs at mines in Pennsylvania, West Virginia, Alabama, and Utah is completed;

• NIOSH and MSHA commit $150,000 each for further testing contingent upon completion and positive assessment of the in-mine testing; and

• Information is obtained to assist in controlling and monitoring respirable coal mine dust and preventing Black Lung disease.

For all the reasons stated herein, the comment period on the proposed rule is hereby extended until further notice is published in the Federal Register.

A separate notice reopening the rulemaking record for the proposed rule “Determination of Concentration of Respirable Coal Mine Dust,” (68 FR 10940, 68 FR 32005) will be published in the Federal Register shortly.

Dated: June 30, 2003.
John R. Caylor,
Deputy Assistant Secretary for Mine Safety and Health.

[FR Doc. 03-16979 Filed 7-1-03; 11:28 am]

BILLING CODE 4510-43-M